DEPARTMENT OF ENERGY

Federal Energy Regulatory Commission

[Docket No. RP99-301-104]

ANR Pipeline Company; Notice of Negotiated Rate Filing

February 26, 2004.

Take notice that on February 10, 2004, ANR Pipeline Company (ANR) tendered for filing and approval two negotiated rate agreements between ANR and ConocoPhillips Company pursuant to ANR's Rate Schedule ITS, as well as of the Negotiated Rate Letters and the related Lease Dedication Agreement. ANR tenders complete copies of these agreements, pursuant to the Commission's Letter Order dated January 29, 2004, where it accepted the filing subject to ANR filing a complete copy of the associated liquefiables ITS agreement as the pages of this agreement were out of order in the original transmittal, creating the impression that the copy was incomplete. Also, the signature page for one of the Negotiated Rate Letters was missing; therefore, ANR has submitted a complete set of all the agreements involved.

ANR requests that the Commission accept and approve the subject negotiated rate agreement amendments to be effective February 1, 2004.

Any person desiring to be heard or to protest said filing should file a motion to intervene or a protest with the Federal Energy Regulatory Commission, 888 First Street, NE., Washington, DC 20426, in accordance with sections 385.214 or 385.211 of the Commission's rules and regulations. All such motions or protests must be filed on or before the date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Intervention and Protests Date: March 4, 2004.
Linda Mitry,
Acting Secretary.

[FR Doc. E4-450 Filed 3-2-04; 8:45 am]

BILLING CODE 6717-01-P